DEPARTMENT OF HEALTH AND HUMAN SERVICES

Administration for Children and Families

[Program Announcement No. ACYF-PA-CC-2000-01]

Fiscal Year 2000 Discretionary Announcement of the availability of funds and request for applications for Field Initiated Child Care Research Projects, Child Care Policy Research Partnerships, Child Care Research Scholars, and the Child Care Research Fellowship Program.

AGENCY: Administration on Children, Youth and Families, ACF, DHHS.

ACTION: Notice.

SUMMARY: The fiscal year (FY) 1999 Omnibus Consolidated and Emergency Supplemental Appropriation Act (P.L. 105-277) provides $10 million in FY 2000 funds for child care research, demonstration, and evaluation activities to be used directly or through grants or contracts. This first-ever appropriation for child care research occurred at the request of President Clinton and reflects Congressional recognition of the importance of child care issues. In this notice, ACF announces the availability of these funds and requests child care research applications. It is anticipated that approximately $4.3 million will be distributed through this Announcement. Universities and colleges, public agencies, non-profit organizations, and for-profit organizations agreeing to waive their fees are invited to submit applications for Field Initiated Child Care Research Projects, Child Care Policy Research Partnerships, and implementation of the Child Care Research Fellowship Program. Accredited universities and colleges may submit a Child Care Research Scholar application on behalf of a doctoral candidate who has a dissertation proposal approved by their doctoral committee.

This solicitation announces competition for funding in four priority areas: (1) Field Initiated Child Care Research Projects; (2) Child Care Policy Research Partnerships; (3) Child Care Research Scholars; and (4) the Child Care Research Fellowship Program. Projects funded under each of these priority areas are expected to address critical questions with implications for children and families, especially low-income working families and families transitioning off welfare. In addition, projects will contribute to a comprehensive research agenda designed to increase the capacity for child care research at the national, State, and local levels and promote better linkages among research, policy, practice, and outcomes for children and families.

The Child Care Bureau's research agenda is designed to help answer five key questions:

(1) What does child care look like today? What are the variations in child care by type, quality, number and ages of children in care, cost, availability of subsidies, early childhood workforce, family-work issues, and community supports? How do child care demand and supply interact? How do the major variations relate to quality and outcomes for children and families? How are Federal subsidy and quality funds being used?

(2) How do the variations in child care including quality, cost, types of care, administrative strategies, and characteristics of the child care workforce influence children's development and well-being, including school readiness?

(3) How do the variations in child care including types of care, cost, quality, availability of subsidies, and flexibility relate to the ability of parents to provide for their families and successfully manage family and work responsibilities? Do difficulties in paying for child care affect family well-being in other areas such as housing, health care, and employment stability?

(4) How do the answers to these broad questions translate into specific child care policies and program choices at national, State and local levels? What is the interaction between subsidy utilization rates and policies related to eligibility, rates, and co-payments? What effects do policy innovations involving provider compensation, training, and incentives for quality (such as tiered reimbursement rates and licensing) have on improving the quality and availability of care for children and families?

(5) How do the answers to all of these questions differ for key sub-groups of children and families? Current research suggests that certain sub-groups of families (for instance, low-income, non-English speaking, and those that include an infant or a child with special needs) may have differing child care preferences or face extraordinary challenges as compared to other families. What are these variations and challenges and how do they affect children and families? What are the policy and programmatic implications?

FOR FURTHER INFORMATION: For questions regarding application requirements of this program announcement, please contact the ACYF Operations Center Technical Assistance Team at 1-800-351-2293 or send an Email to ccb@lcg.com. For programmatic questions, please contact Dr. Patricia L. Divine, Program Specialist, Child Care Bureau at 202-690-6705 or Karen Tvedt, Policy Division Director, Child Care Bureau at 202-401-5130, or send an Email to pdivine@acf.dhhs.gov.

SUPPLEMENTARY INFORMATION: This Announcement includes the instructions needed to apply for: (1) Field Initiated Child Care Research Projects; (2) Child Care Policy Research Partnerships; (3) Child Care Research Scholars; or (4) the Child Care Research Fellowship Program. The Standard Federal Forms that must be included in applications can be downloaded from the Internet http://www.acf.dhhs.gov/programs/ofs/form.htm. For each priority area, the required Standard Federal Forms are identified under “Project Description and Application Requirements.”

This Announcement includes five parts. Part I provides information about the Child Care Bureau, its research agenda and strategies, priority areas to be funded under this Announcement, and instructions for submitting an application. Part II describes key research questions in the Child Care Bureau's broad research agenda. Part III provides background information, instructions for completing applications, evaluation criteria, and funding procedures for Field Initiated Child Care Research Projects (Priority Area 1) and Child Care Policy Research Partnerships (Priority Area 2). Part IV provides background information, instructions for completing applications, and evaluation criteria and funding procedures for Child Care Research Scholars (Priority Area 3). Part V provides background information, instructions for completing applications, and evaluation criteria and funding procedures for implementation of the Child Care Research Fellowship Program (Priority Area 4). The contents are outlined below:

Table of Contents

Part I. General Information

A. Purpose

B. Context

C. The Child Care Bureau

D. Need for Child Care Research

E. Research Agenda

F. Research Goals

G. Research Activities

H. Priority Areas to be Funded under this Announcement

I. Submission of Applications

J. Citations

K. Number of Awards, Duration, and Funding Levels

Part II. Research Questions and Priorities

Part III. Field Initiated Child Care Research Projects and Child Care Policy Research Partnerships

Priority Area 1. Field Initiated Research Projects

A. Purpose

B. Priorities

C. Number of Awards

D. Project Duration, Funding Levels, and Budget Periods

E. Federal Share

F. Eligible Applicants

G. Data Ownership

Priority Area 2. Child Care Policy Research Partnerships

A. Purpose

B. Priorities

C. Number of Awards

D. Project Duration, Funding Levels, and Budget Periods

E. Federal Share

F. Eligible Applicants

G. Data Ownership

Project Description and Application Requirements

A. Contents and Format of the Application

B. Project Narrative Statement

Evaluation and Selection

A. Screening and Panel Review

B. Evaluation Criteria

C. The Selection Process

D. Funding Date

Part IV. Priority Area 3: Child Care Research Scholars

A. Purpose

B. Number of Awards

C. Project Period

D. Funding Levels

E. Matching Requirements and Non-Federal Share

F. Maximum Federal Share

G. Eligible Applicants

H. Additional Requirements

I. Project Description and Application Requirements

A. Evaluation and Selection

B. Evaluation Criteria

C. The Selection Process

D. Funding Date

Part V. Priority Area 4: Child Care Research Fellowship Program

A. Purpose

B. Priorities

C. Number of Awards

D. Project Period

E. Funding Levels

F. Matching Requirements and Non-Federal Share

G. Maximum Federal Share

H. Eligible Applicants

I. Project Description and Application Requirements

J. Evaluation and Selection

K. Evaluation Criteria

L. The Selection Process

M. Funding Date

Part I. General Information

A. Purpose

The child care research grants to be funded under this Announcement will increase the capacity for child care research at national, State, and local levels while simultaneously answering critical questions with implications for children and families, particularly low-income working families and families transitioning off welfare.

B. Context

These child care research grants are being funded at a time when more than half of infants, toddlers, and preschool children are in child care and only 14 percent of children stay at home full time with their primary caregivers during their first three years (NICHD). In 1998, 96 percent of fathers and 65 percent of mothers with children under the age of six worked. During this same period, nearly 78 percent of mothers with children between the ages of six and 17 were in the paid labor force full or part-time. Welfare reform and the consistently strong and growing economy have contributed to dramatic increases in the number of low-income mothers in the paid labor market. The percentage of single mothers with incomes under 200 percent of the Federal Poverty Level who are employed rose from 44 percent in 1992 to 57 percent in 1999 (U.S. Bureau of the Census). As increasing numbers of parents work and children experience non-parental care at younger and younger ages, questions about the availability, quality, and cost of child care and their effects on child care family outcomes take on new urgency.

The projects to be funded under this Announcement build on significant child care research already in progress with support from the Department of Health and Human Services (DHHS), the Administration for Children and Families (ACF), and other funding agencies. “A National Study of Child Care for Low-Income Families,” being conducted by Abt Associates in cooperation with the National Center for Children in Poverty at Columbia University is but one example of important studies now in progress. This study will provide information about the employment and child care decisions of low-income families, the characteristics and functioning of family child care, the experiences children and families have with family child care, and the effects of policies and programs on the child care market. The Child Care Bureau's Child Care Policy Research Consortium, comprised of five currently-funded Child Care Policy Research Partnerships and ten states, is actively engaged in research, much of which involves analysis of administrative data. These studies are designed to address issues such as unmet need, subsidies, TANF, the working poor, waiting lists, and quality of care. Information about these and other studies is available at http://www.aspe.hhs.gov/hsp/cyp/ccresinv.htm.

Additional studies being conducted with ACF participation include “The Role of Child Care in Low Income Families' Labor Force Participation,” the “Study of Infant Care under Welfare Reform” (both being conducted by Mathematica Policy Research), the “Early Childhood Longitudinal Study—Birth Cohort (ECLS-B),” and the National Institute of Child Health and Human Development’s “Study of Early Child Care.” In addition, DHHS is supporting efforts by States to monitor the well-being of children in the context of welfare reform, child care, and other policy changes. In the “Project on State-Level Child Outcomes,” ACF and the DHHS Office of the Assistant Secretary for Planning and Evaluation (ASPE) are supporting efforts in five States to improve the measurement of family and child health and well-being in State welfare evaluations. Technical assistance to States in conducting these evaluations is being provided through Child Trends, Inc. In addition to the child impact projects, ACF and ASPE have funded a separate, complementary project in 13 states called, “Advancing States’ Child Indicator Initiatives,” which supports the development and use of indicators for children's health and well-being in areas such as child care and school readiness. For a description of these State projects, visit http://www.aspe.hhs.gov/hsp/cyp/cindicators.htm.

While important child care research has been conducted over the past two decades and important research is now in progress, some studies need to be updated and new studies are required to examine the emerging child care landscape. Welfare reform and increased federal child care funding provide further urgency to building the child care research infrastructure and being able to answer important questions about child care and its impact on children and families. For example, information is limited with regard to unregulated care, quality and quality incentives, and child care and its relationship to specific sub-groups of families such as non-English-speaking families and families which include a child with special needs.

C. The Child Care Bureau

The Child Care Bureau was established by ACF in 1994 to provide leadership to efforts to enhance the quality, affordability, and supply of child care available for all families. The Child Care Bureau administers the Child Care and Development Fund (CCDF), a $3.5 billion child care program which includes funding for child care subsidies and activities to improve the quality and availability of child care. (CCDF was created after amendments to ACF child care programs by Title VI of the Personal Responsibility and Work Opportunity Reconciliation Act of 1996 and consolidated four Federal child care funding streams including the Child Care and Development Block Grant, AFDC/JOBS Child Care, Transitional Child Care, and At-Risk Child Care.) The Bureau works closely with ACF Regions, States, Territories, and Tribes to assist with, oversee, and document implementation of new policies and programs in support of State, local, and private sector administration of child care services and systems. In addition, the Bureau collaborates extensively with other offices throughout the Federal government to promote integrated, family-focused services and coordinated child care delivery systems. In all of these activities, the Bureau seeks to enhance the quality, availability, and affordability of child care services, support children's healthy growth and development in safe child care environments, enhance parental choice and involvement in their children's care, and facilitate the linkage of child care with other community services.

D. Need for Child Care Research

Child care research and evaluation are critical to understanding child care and its implications for children and families. Under Federal legislation governing welfare and child care, States have the opportunity to craft programs directly suited to their citizens; however, they are also faced with unprecedented challenges in meeting the needs of low-income, under-served, and other vulnerable populations. Public agencies are under enormous pressure to use their child care dollars as effectively as possible. Yet, research and administrative data need to be expanded to address additional policy and planning issues. For example, there is a need for a more detailed understanding of how the child care market operates within the context of changing policies and population dynamics, or what outcomes for children and families can be achieved under new policy opportunities and constraints. There is, therefore, a growing consensus about the critical need for more timely and broadly representative knowledge to guide child care services, inform policy debates, and assist in developing solutions to complex child care issues.

E. Research Agenda

The fiscal year (FY) 1999 Omnibus Consolidated and Emergency Supplemental Appropriation Act (P. L. 105-277) provides $10 million in FY 2000 funds for child care research, demonstration, and evaluation activities. This appropriation is particularly significant as the first federal funding specifically designated for child care research. These funds provide the catalyst for the research agenda that frames the goals and priorities contained in this Announcement. Developed by the Child Care Bureau, the Office of Planning, Research and Evaluation (OPRE), and other offices within ACF, this agenda is the result of a collaborative planning process which includes other Federal partners, State and local agencies, researchers, professional organizations, and other stakeholders.

Instrumental to the development of the research agenda was a two-day Child Care Research Leadership Forum in which researchers, policy-makers and practitioners considered what is currently known and what needs to be learned about critical child care issues. Forum participants identified an urgent need for immediate short-term answers to policy questions, intermediate-term research on the complexities of child care in different kinds of markets, and longitudinal studies to determine macro trends and long-range outcomes for children, families and communities.

Following the Child Care Research Forum, the Child Care Bureau and OPRE jointly sent letters to more than 700 individuals and organizations to further identify critical information gaps and policy research needs. Responses were received from 21 universities, colleges, and research organizations as well as many child care and human service agencies, national professional organizations, child care resource and referral agencies, and individuals. Among those commenting, 58 percent noted the need to better understand the dynamics of child care quality, cost, and availability. Forty-nine percent argued for strengthening the research infrastructure, and 37 percent mentioned the importance of developing an improved understanding of the interrelationships among child care, employment, and self-sufficiency.

This process affirmed the need for better descriptions of local child care populations, services, and outcomes; development of interactive models to understand complex causal relationships; updated national profiles of child care supply and demand; and greater attention to specific policy questions in the arena of State child care regulations, subsidy programs, and welfare reform. ACF was urged to fund projects that will contribute to an increased national capacity for research and help build a sound infrastructure for emerging knowledge. At the same time, we were encouraged to fund studies that will provide short-term answers to pressing questions and yield timely, useful information for policy makers.

F. Research Goals

The Child Care Bureau's research agenda is characterized by two major goals. These goals reflect the need to be able to answer critical questions while simultaneously developing a sound research infrastructure for new knowledge. All research funded in FY 2000 will support both goals. Several of these efforts will be carried out through projects described in this Announcement. Others will be funded through separate contracts, grants, interagency agreements, or other appropriate funding mechanisms.

Goal 1. Answering Critical Questions

Our first goal for child care research is to address immediate information needs. Organizations and individual scholars will conduct research activities to provide timely answers to critical questions, improve the quality of knowledge within the child care field, and promote a more integrated understanding of the interrelationships among research, policy, practice, and outcomes for children and families. Research initiatives to be undertaken as part of the Child Care Bureau?s research agenda are designed to address the five key questions outlined in the Summary and detailed in Part II of this Announcement.

Goal 2. Capacity Building

Our goal for capacity building includes a broad range of objectives to be addressed at national, state, and local levels. In particular we hope to:

(1) Increase the comparability of administrative data and expand the analysis of policy variables (e.g., types of care, quality of care, number of families and children using care, family payments for care, subsidy amounts and duration, and characteristics of the child care workforce).

(2) Ensure that researchers have easy access to data for a wide variety of analyses.

(3) Stimulate growth in the field, including the recruitment and training of additional researchers.

(4) Develop the partnerships among researchers, practitioners, and academics that are critical to success in this research.

(5) Ensure that the research infrastructure supports national, state, and local studies.

G. Research Activities

The Child Care Bureau plans to undertake an array of activities to achieve its research goals including the initiatives covered by this Announcement and other activities to be funded through separate procurement processes. The priorities covered under this Announcement include Field Initiated Child Care Research Projects, Child Care Policy Research Partnerships, Child Care Research Scholars, and the Child Care Research Fellowship Program. In addition, ACF anticipates funding additional activities toward building the research infrastructure as well as other Federal early childhood research projects. Activities likely to be funded separately from this Announcement include:

• Provide Additional Support to Developing the Research Infrastructure

The Bureau intends to promote access to data, provide technical assistance, perform special analyses, and track Federally-and non Federally-funded child care research. This initiative will create a national child care data archive, assist researchers with secondary analyses of completed data sets, contribute to research dissemination, and coordinate sharing of research information among Child Care Bureau grantees.

• Support Other Federal Early Childhood Research

Some FY 2000 child care research funds will be used for interagency agreements to support other Federal research related to child care and early childhood issues. Partnerships are being explored with the Department of Education, National Center for Educational Statistics and the DHHS National Institute for Child Health and Human Development.

H. Priority Areas to be Funded Under This Announcement

Projects funded under each priority area will contribute to the Child Care Bureau's research goals, provide timely answers to critical questions, and expand research capacity. The four priority areas identified for this Announcement include:

(1) Field Initiated Child Care Research Projects are being funded to stimulate research that is responsive to the consultation we received through the leadership forum and comment process, including the need to support studies that examine interrelationships within child care systems. Projects will support the Bureau's research agenda and provide timely and relevant data on issues faced by policy makers, practitioners, parents, and the general public. While projects may involve analysis of national or State data sets, we expect that most of these studies will address community issues. Since child care markets are local, there is a need to understand market dynamics, how child care demand and supply interact, how child care arrangements intersect with family, work, school, and other institutions in the community and how these factors relate to outcomes.

The following are issues of special priority for Field Initiated Child Care Research Projects: culturally and ethnically diverse populations and cultural influences on child care; child care for infants and toddlers; child care for children with disabilities, chronic illnesses, and other special needs; issues related to children’s out-of-school time; informal care provided by relatives, friends, neighbors, and other community caregivers operating outside the formal system; issues related to health, safety, and quality of care; children’s development and well-being in care; and, social and emotional supports needed for a healthy child care environment. Applications dealing with other important issues are also invited.

(2) Child Care Policy Research Partnerships expand on a strategy that has proven successful in facilitating cross-state research and providing rapid responses to State child care administrators’ questions. The Child Care Bureau has funded two waves of Child Care Research Partnerships which operate as a Child Care Policy Research Consortium. New partnerships will be funded to build collaboration and systemic links among researchers, policy makers and practitioners toward addressing complex problems concerning child care quality, outcomes, and unmet needs. Other areas of special priority for new Child Care Policy Research Partnerships are subsidies, waiting lists, duration of care, quality initiatives, low-income families, and families transitioning off welfare, and partnerships among child care, Head Start, and State pre-kindergarten programs toward providing full-day, full-year services. The new partnerships will participate with earlier partnerships in the activities of the Child Care Policy Research Consortium.

(3) Child Care Research Scholars will provide support for doctoral candidates in conducting dissertation research on child care issues under the auspices of the Child Care Bureau and the educational institution in which the student is enrolled. Dissertation applications must have been approved by the student’s doctoral committee by the time the scholarship is awarded and the dissertation expected to be completed within the two year scholarship period. Issues of special priority for Child Care Research Scholarships include those listed for Field Initiated Child Care Research Projects and Child Care Policy Research Partnerships.

(4) The Child Care Fellowship Program will bring early-to-mid career professionals in the fields of child care, early childhood education, and research to the Child Care Bureau. Through this Announcement, we intend to select an organization to work in partnership with the Child Care Bureau to design and implement the Child Care Fellowship Program. This program will promote integrated leadership in child care research and policy through intensive involvement with Child Care Bureau and Senior ACF officials, State-level policy makers, members of Federally-funded research projects, and others with a role in national issues for child care research. Fellows will work on assignments designed to further their potential as researchers in the areas of child care, child development, child care policy, and administration of subsidy programs.

I. Submission of Applications

(1) Number of Applications: Only one priority area may be included in each application. Applicants, depending on eligibility requirements for the specific priority area, may apply for more than one priority area with separate applications. However, applicants submitting more than one priority area will be eligible for only one award. The cover letter for each application must state all priority areas in which applications are being submitted.

(2) Notice of Intent to Submit an Application: In order to anticipate workload, including the number of outside reviewers required, ACF would appreciate an early estimate of the number of applications to be expected. If you intend to submit an application, please notify the ACYF Operations Center eight weeks prior to the submission deadline. (This information will also be used to update mailing lists for future announcements.) In the notification, please include the following information:

(a) Announcement Number, Title and Priority Area

(b) Primary Contact Person (Project Director or Principal investigator)

(c) Organization

(d) Street address

(e) Mailing address

(f) E-mail address

(g) Phone number

(h) Fax number

If the primary contact person is difficult to reach, please include an alternate contact. Your notification may be through e-mail at CCB@LCGNET.COM, telephone (1-800-351-2293), or postcard to the ACYF Operations Center, Laurel Consulting Group, 1825 Fort Myer Drive, Suite 300, Arlington, Virginia 22209: Attention Child Care Research.

(3) Deadline: The closing time and date for receipt of applications is 4:30 p.m. (Eastern Standard Time) on March 31, 2000.

(4) Late Applications: If your application is received by the ACYF Operations Center after the deadline, it will be classified as late and eliminated from the competition. Applicants whose packages arrive late will be notified.

(5) Extension of Deadlines: ACF may extend the deadline for all applicants because of acts of God such as floods or hurricanes or when there is wide disruption of the mails. However, if ACF does not extend the deadline for all applicants, it may not extend the deadline for any applicant.

(6) Address for Submission: All applications must be delivered to the following address: ACYF Operations Center, Laurel Consulting Group, 1825 North Fort Myer Drive, Suite 300, Arlington, Virginia 22209, Attention: Child Care Research, Priority Area, Phone: 1-800-351-2293.

(7) Method of Submission: (a) Mailed Submissions: Applications sent first class or priority mail should be sent well in advance to ensure that applications are received by the ACYF Operations Center on or before the deadline. When mailed applications are received after the closing date, date of postmark will not be considered as meeting the deadline.

(b) Hand Delivered Submissions: Applications hand carried by applicants, their representatives, couriers, or overnight mail services must be received on or before the deadline by the ACYF Operations Center. Applications will be accepted between the hours of 8:00 a.m. and 4:30 p.m. Eastern Time, Monday through Friday (excluding Federal Holidays). Applicants are cautioned that overnight and express mail services do not always deliver as promised. Failure of a delivery service to meet the deadline will cause an application to be classified as late and eliminated from competition.

(c) Electronic Submissions: ACYF cannot accommodate transmission of applications by fax, e-mail attachment, or other electronic media. Therefore, applications transmitted electronically will not be accepted, regardless of date or time of submission and receipt.

(8) Notification of Receipt: Applicants will be notified automatically about the receipt and status of their application. Applications that are received on or before the deadline will be assigned a four-digit identification number. This number and the priority area must be included in all subsequent communication concerning the application. If you do not receive acknowledgment of your application within eight weeks after the deadline date, please notify the ACYF Operations Center by telephone at 1-800-351-2293.

J. Citations

(1) Statutory Authority: Department of Labor, Health and Human Services, and Education, and Related Agencies Appropriation Act, 1999 (Pub. L. 105-277).

(2) Catalog of Federal Domestic Assistance: The Catalog of Federal Domestic Assistance number for all priority areas is 93.647.

(3) State Single Point of Contact: This program is covered under Executive Order 12372, “Intergovernmental Review of Federal Programs,” and 45 CFR Part 100, “Intergovernmental Review of Department of Health and Human Services Program and Activities.” Under the Order, States may design their own processes for reviewing and commenting on proposed Federal assistance under covered programs.

As of October 5, 1999 the following jurisdictions have elected NOT to participate in the Executive Order process. Applicants from these jurisdictions or for projects administered by Federally-recognized Indian Tribes need take no action in regard to E.O. 12372: Alabama, Alaska, American Samoa, Colorado, Connecticut, Hawaii, Idaho, Kansas, Louisiana, Massachusetts, Minnesota, Montana, Nebraska, New Jersey, New York, Ohio, Oklahoma, Oregon, Palau, Pennsylvania, South Dakota, Tennessee, Vermont, Virginia, and Washington.

Applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a, and submit a copy of the letter along with its application to OCS.

Under 45 CFR 100.8(a)(2), a SPOC has 60 days from the application deadline date to comment on proposed new or competing continuation awards.

The SPOCs are encouraged to eliminate the submission of routine endorsements as official recommendations. Additionally, SPOCs are requested to clearly differentiate between mere advisory comments and those official state process recommendations which they intend to trigger the “accommodate or explain” rule.

When comments are submitted directly to ACF, they should be addressed to: Department of Health and Human Services, Administration for Children and Families, Office of Grants Management/ACYF, 330 C Street SW., Washington, DC 20447.

A list of Single Points of Contact for each State and Territory can be found at: http://www.hhs.gov/progorg/grantsnet/laws-reg/spoc999.htm.

(4) Paperwork Reduction Act of 1995 (Pub. L. 104-13): Public reporting burden for this collection of information is estimated to average 15 hours per response for the Field Initiated Child Care Research Projects, 20 hours per response for the Child Care Policy Research Partnerships, 5 hours per response for the Child Care Research Scholars, and 10 hours per response for the Child Care Research Fellowship Program. These estimates include the time for reviewing instructions, gathering and maintaining the data needed, and reviewing the collection of information. The project description is approved under OMB Control Number 0970-0213. An agency may not conduct or sponsor, and a person is not required to respond to, a collection of information unless it displays a currently valid OMB control number.

K. Number of Awards, Duration, and Funding Levels

Approximately 19-23 grants, for all priority areas, will be awarded in Fiscal Year 2000 (ending September 30, 2000), subject to results of the competitive review process and availability of funds. Continuation of grants beyond the initial budget period will depend strongly on the specific reauthorization of child care research funds for FY 2001. Should additional funds be available in FY 2001, ACF also reserves the right to fund additional projects from among the applications received through this announcement.

(1) Priority Area 1, Field Initiated Child Care Research Projects. This priority area is soliciting applications for project periods up to three years. Awards, on a competitive basis, will be for a one-year budget period, although project periods may be for three years. Applications for continuation grants funded under these awards beyond the one-year budget period but within the three year project period will be entertained in subsequent years on a noncompetitive basis, subject to the availability of funds, satisfactory progress of the grantee and a determination that continued funding would be in the best interest of the government.

Significant findings by the end of the first budget period will be necessary to demonstrate satisfactory progress on the part of the grantee. Approximately 8 to 10 grants will be awarded for an initial budget period of twelve months. Funding for Field Initiated Child Care Research Projects will range between $150,000 and $300,000 for the first budget period and up to $200,000 per year (12 months) in subsequent periods.

(2) Priority Area 2, Child Care Policy Research Partnership Projects. This priority area is soliciting applications for project periods up to three years. Awards, on a competitive basis, will be for a one-year budget period, although project periods may be for three years. Applications for continuation grants funded under these awards beyond the one-year budget period but within the three year project period will be entertained in subsequent years on a noncompetitive basis, subject to the availability of funds, satisfactory progress of the grantee and a determination that continued funding would be in the best interest of the government. Significant findings by the end of the first budget period will be necessary to demonstrate satisfactory progress on the part of the grantee. Approximately 4 to 6 grants will be awarded for an initial budget period of twelve months. Funding for Child Care Policy Research Partnership Projects will be up to $300,000 for the first budget period and up to $200,000 per year (12 months) in subsequent periods.

(3) Priority Area 3, Child Care Research Scholars. This priority area is soliciting applications for project periods up to two years. Awards, on a competitive basis, will be for a one-year budget period, although project periods may be for two years. Applications for continuation grants funded under these awards beyond the one-year budget period but within the two year project period will be entertained in subsequent years on a noncompetitive basis, subject to the availability of funds, satisfactory progress of the grantee and a determination that continued funding would be in the best interest of the government. Significant findings by the end of the first budget period will be necessary to demonstrate satisfactory progress on the part of the grantee. Approximately six grants will be awarded to institutions of higher learning for an initial budget period of twelve months. Funding for Child Care Policy Research Partnership Projects will be up to $40,000 for the first budget period with the possibility of up to $30,000 for one additional year (12 months).

(4) Priority Area 4, Child Care Research Fellowship Program. Through a cooperative agreement, ACF anticipates funding an organization to work in partnership with the Child Care Bureau to design and implement the Child Care Research Fellowship Program. This program will enable mid-career professionals to participate in research fellowships with the Child Care Bureau. During the first budget period, an anticipated three to five fellows will be chosen to participate. This priority area is soliciting applications for a project period up to three years. Award, on a competitive basis, will be for a one-year budget period, although the project period may be for three years. Application for a continuation grant funded under this award beyond the one-year budget period but within the three year project period will be entertained in subsequent years on a noncompetitive basis, subject to the availability of funds, satisfactory progress of the grantee and a determination that continued funding would be in the best interest of the government. One grant will be awarded for an initial budget period of twelve months. Funding for the cooperative agreement will be up to $500,000 for the first budget period with the possibility of up to $375,000 per year for two subsequent years.

Part II. Research Questions and Priorities

As a result of major social change, shifting cultural patterns, and new legislation, child care has changed dramatically over the past decade. It is now apparent that child care markets are local, but influenced by State and national policies and trends. In addition, child care now touches many different aspects of contemporary life with implications for children, parents, educators, employers, communities, and society as a whole. Nonetheless, current knowledge in this area remains largely fragmented and piecemeal; there is little integration of information emerging from the various academic disciplines and child care sectors.

In our consultations with experts in the field, we were told that it is crucial to understand the interplay between child care supply and demand in different communities, population groups, and policy contexts. As more knowledge is gained about child development and well-being in contemporary environments, there is a need for better understanding of how child care affects the growing child. As more is known about the growing diversity in family values, child rearing strategies, preferences, and needs, questions arise as to how child care policies and programs affect the ability of parents to make wise decisions for their children. Better understanding of child care is also critical to employment goals for adults, particularly in the arena of welfare reform and economic self-reliance. In addition, there is a need for better information about how child care can help parents manage the difficulties of balancing work and family life, especially when resources are scarce.

This section describes five broad research questions that the Child Care Bureau's research agenda seeks to address. These questions are designed to provide descriptive profiles of child care supply and demand, examine major variations and their outcomes, explore the interrelationships among child care market forces, policies and programs, and determine how these factors play out among different populations of children and families.

1. What does child care look like today?

2. How do the variations in child care affect children?

3. How do the variations in child care affect parents?

4. How do the answers to these broad questions translate into specific policy and program choices at the state and local levels?

5. How do the answers to all the questions above differ for sub-groups of children and families?

These five questions and their sub-questions were developed from the comments and suggestions of researchers, policy makers, and practitioners during the development of the research agenda. We are particularly interested in these questions as they relate to low-income families, including those who are transitioning from welfare to work, working families who were formerly on welfare, and working families who have not been a part of the welfare system. We are also concerned with the many issues of unmet need, quality of care, policy relevance, and outcomes as these themes play out in different social, cultural, and linguistic contexts.

Each question contains several illustrative sub-questions. No individual research project will address all of these questions; a project may focus on a particular, essential issue or explore a more complex set. However, each project should contribute to the larger context of interrelated child care issues.

Question 1. What Does Child Care Look Like Today?

The first research question is intended to broadly describe child care today. What types of care do families use? What quality of care do children receive? What does child care cost and how much do parents pay? Who are the providers of child care and what are their characteristics? The answers to these descriptive questions will form the basis for more detailed exploration of interrelationships among child care market forces, social and cultural influences, policies, programs, and outcomes.

Types of Care

• How many families rely exclusively on their own members for the care of children at different ages? How many parents provide all of the care for their children? How may rely on other adult relatives including grandparents? How many allow children to care for themselves or their younger siblings? How many families rely largely on care in the community? How many use some combination of care within the family and the community? Are there common usage patterns or transitions between family and community care?

• How is the community supply of care distributed across different types of care: child care centers and other early childhood programs, group child care homes, family child care homes, and arrangements in the child's own home (nannies or sitters)?

• Within the formal child care sector, how is the supply of care distributed across regulated family child care homes and center-based programs? To what extent do family child care homes operate as part of networks? Within the informal care sector, how is the supply distributed among relatives (kin), individuals within close social networks (kith), legally operating non-regulated care offered in the community, and “underground” or illegally operating services?

Quality of Care

• What are the elements of quality in the care of infants, toddlers, and preschoolers? What constitutes quality in programs serving six-to-twelve year old children during their out-of-school time? How do child care professionals and informal providers define high-quality and low-quality care? How do parents define quality? What do school-age children have to say about their own needs and preferences in the use of out-of-school time? How do the same or similar dimensions of quality change when applied to children in different developmental stages?

• What are the key indicators of high quality in different types of environments? Of low quality? How does structural quality (e.g., caregiver-to-child ratios, group size, professional qualifications, continuity of care and provider retention) relate to process quality (what happens in the child care environment) and quality as measured by interviews with parents, providers or other professionals?

• What is the range of quality within a given type of care according to a variety of approaches and measures? What aspects of quality appear to be most prevalent or lacking in center-based settings and home-based environments? In formal care programs and informal arrangements? What practices best support the cognitive, social and emotional development of children?

• How do variables related to the distribution of child care relate to families and their experiences? For example, how many and what types of care do children experience throughout the day? How many arrangements do they have over the course of a year? How do elements of care stability, continuity, and transition affect the quality of their care in different types of settings?

Costs of Care and Subsidies

• What are the costs of care provided in different types of settings? What does care actually cost to provide? What do providers charge? How much do parents pay?

• To what extent are subsidies available and accessible to eligible families and children? To what extent are subsidies used? Which eligible families use subsidies and which do not? What do eligible families do when subsidies are not available?

• How do child care subsidies affect the price of care purchased by low-income parents? Do parents who receive child care subsidies make different choices than low-income parents without subsidies? What is the quality of care purchased by families with the help of subsidies?

• How does the utilization of subsidized child care shift during the transition from welfare-to-work? How does use of subsidies vary among current TANF recipients, former TANF recipients, and other working poor families? What are the interrelationships among welfare status, employment, child care subsidy, price of care, and family income?

• Do subsidies affect the likelihood of working, the number of hours worked, the types of jobs obtained, or the level of earnings? Do subsidies affect the stability and progression of employment and earnings?

• What are the interrelationships among child care cost, subsidy, and quality? Do subsidies affect the quality, safety, and stability of care that children receive?

Characteristics of the Child Care Workforce

• Who is caring for children? How do characteristics of the child care workforce vary by type of care, regulatory status, demographic characteristics of the population, type of neighborhood, and other important variables?

• What are the demographic characteristics, professional characteristics, and motivations of individuals who work in child care and early education programs? What is the current salary and benefit structure for child care center staff, preschool teachers and other early childhood professionals? How do provider education, training, experience affect salaries and benefits?

• What factors make a difference for staff turnover, continuity of care, and the quality of services provided? What are the challenges to retention of qualified staff? What is the effectiveness of approaches to improve retention? How do quality enhancements such as accreditation affect the quality of services received? Do accredited programs maintain higher levels of quality over time?

• What are the demographic characteristics, background, training, skills, and motivations of licensed family child care providers, license-exempt caregivers, and other unregulated providers in the community? What types of supports are available and used by caregivers who are part of a formal system and those who operate informally?

Question 2. How do the major variations in child care affect children?

• This set of questions examines how children develop in different care environments, how various features of child care affect children, and how child care relates to other important factors such as school readiness and achievement.

• What components of healthy development are most affected by child care? How do emotional, cognitive, and social variables interact in the developing child? How do early experiences in child care help to shape development? What are the implications of different aspects and levels of child care quality for growth and development throughout childhood?

• How do structural variables of quality (regulatory status, staff/child ratio, group size, caregiver training, etc.) relate to caregiver behaviors and outcomes for children? For example, do informal caregivers provide safety, stability, continuity, and developmentally appropriate experiences?

• How do other features of child care environments, such as type of care, cost, administrative strategies, and characteristics of the child care workforce affect outcomes in children?

• What are the interrelationships among types of setting, quality of child care and school readiness? What are the linkages between child care, children's development, school readiness, and later school performance? How do programs serving older children during out-of-school time influence their academic performance and developmental well-being?

• How many children are in high-quality care environments that promote their healthy development? How many are in poor quality settings that threaten to impair their development? What are the most important factors?

• Are there important interrelationships between child care quality and the quality of children's other environments? For example, does the availability of high child care quality mitigate against violence in the home and community? Does a generally low level of child care quality care increase the risk? In what ways?

Question 3. How do the major variations in child care affect parents?

• This set of questions examines the interrelationships among market forces, workplace factors, child care policies and programs, community supports, and outcomes for parents.

• What is the relationship between parents' perceptions of quality care, their goals around child literacy, and the child care decisions they make? Do they choose care that is consistent with their values and expectations?

• Do families with more choices receive better quality? Do those with fewer choices receive care of lower quality? What is the impact on parents when they can't find or afford high quality care for their children?

• What do parents know about the availability of child care options, subsidies and other resources in their community? Are there groups of parents who are better informed than others? How do resource and referral services or other community supports influence the choices and quality of care experienced by families. How does information influence decision-making?

• Is there an unmet need for subsidies? Which factors appear to influence subsidy use when subsidies are available? What happens to eligible families when child care subsidies are not available? What are the cultural, social, economic and institutional constraints on the demand for child care subsidies?

• To what extent do child care problems and instability affect workplace productivity, absenteeism, tardiness, and turnover? How are employers dealing with these problems? To what extent do employers provide assistance for child care through on- or near-site programs, dependent care plans, purchase of slots? What is the impact of Federal and State efforts aimed at encouraging employers to support child care?

• To what extent do workplace policies and personnel practices affect parents' ability to successfully work and care for their children? How do parents deal with tensions and conflict between child care and work demands?

• How do variations in type of care, quality, cost, use of subsidy, characteristics of the child care workforce, and other important features affect the ability of families to meet basic needs? What are the effects on employment, earnings, family income and career progression?

• How do policies and practices concerning flexibility of child care interact with workplace policies concerning flexibility for workers and flexibility within the family? How do particular patterns of flexibility and rigidity enhance or limit the ability of parents to successfully manage family and work responsibilities? Where do parents find the flexibility they need?

• How affordable is child care for low-income parents? What proportion of family income goes for child care in various types of families?

• What trade-offs do parents make among child care cost, quality and flexibility or convenience? How do they make these decisions? What are the most important elements in formulating complex choices?

Question 4. How do the answers to these broad questions translate into specific policy and program choices at State and local levels?

This set of questions explores interrelationships among market forces, policies, and programs carried out by states and local communities, along with the outcomes of these factors for children and families.

• How are the roles of local stakeholders (advocates, providers, parents, schools, businesses, etc.) in child care changing? Are the stakeholders changing? If so, how? How do changing roles affect the overall child care system?

• What roles do resource and referral programs play? Does the presence of resource and referral services influence the supply of care? In areas where no such program is available, how do providers and parents learn about resources such as training, subsidies, and the community supply of care?

• What roles do employers play? To what extent do employers participate in the community infrastructure for support of the child care industry through resource and referral, training or technical assistance for providers, parent education and consumer information, or transportation for children?

• How do child care regulations, subsidies and other policies affect the availability of care in low-income neighborhoods? What is the relationship between the overall supply of care in a community and the care used by subsidized families?

• What are the interrelationships among local market rates, child care subsidies, and what parents pay? How do child care subsidies and co-payment rates affect the cost of care in local markets? How do required co-payments and additional fees charged by providers affect subsidy utilization and choices made by parents? Does participation in other Federal programs (e.g., Child and Adult Care Food Program) reduce costs to parents?

• What are the interrelationships among parents' judgments, providers' judgments, professional observations of care environments, and children's experiences? Are there innovative methods that States and communities can use to identify need, improve responsiveness to families, leverage resources, and improve the quality of services?

• Within the specific types of care, what aspects need improvement? How can States assess and improve the quality of care within each type?

• How do public and private child care programs, Head Start, kindergarten and pre-kindergarten programs, before-and after-school programs, and other child development programs fit into the community-level infrastructure? To what extent do community child care centers, Head Start programs, State pre-kindergarten programs and other early childhood programs collaborate? What are the challenges to collaboration? Are there successful models of statewide or local collaboration? Are there specific policies that make a difference?

• How do States and localities fund child care and other early childhood education programs? What innovations are being explored? What are the funding barriers to a seamless system? How are funds being blended at the State and local levels? How do various financing strategies affect the availability and access to high quality care in different communities?

• How do State and local regulations affect quality in various child care settings? How is this process mediated by institutional and community factors? How have States used their quality improvement funds? What are the results of these initiatives? Have they made a difference for children and families?

• How do State and local policy variations affect the utilization of subsidized care? Why don't some eligible families apply for subsidies? What happens to eligible families who apply for but do not receive subsidized care?

• How do child care policies affect welfare families, those moving off welfare, and the working poor who are not part of the welfare system? How are working class and middle-income families affected by child care policies?

• How do child care subsidy policies affect the availability and quality of care? For example how do eligibility requirements, co-payment requirements and reimbursement rates interact to affect supply of care in local markets? Are market rate surveys useful in assessing the cost of care and the appropriate levels of reimbursement? To what extent do market rate surveys reward the more affluent urban providers while penalizing providers in poorer counties? Do differences in how subsidies and licensing are administered influence child care supply and demand and the use of subsidies?

Question 5. How do the answers to all the questions above differ for sub-groups of children and families?

This set of questions examines how different groups of children and families are being affected by the major variations in child care market structures, policies and programs in the light of social and cultural trends.

Family Structure and Characteristics of Children

• What are the variations in services and outcomes when viewed through the lens of family structure and child characteristics?

• Do different types of providers serve different child populations? What services are available and utilized for the care for infants, toddlers, and preschoolers, young school-age children and those in the upper elementary grades? For children with disabilities or chronic illness? Abused and neglected children?

• Do single parents, two parent families and extended families make different arrangements for the care of their children?

Demographic and Cultural Factors

• What demographic, cultural and linguistic factors influence the availability, utilization, cost, and quality of care? How are population demographics changing in local communities, and how does increasing ethnic and linguistic diversity affect child care services?

• How do demographic, cultural and linguistic factors affect parental selection and utilization patterns? What are the determinants of parental choice in different cultural and ethnic groups? What family- and community-level factors shape the type and quality of care selected by low-income parents in different cultural and linguistic contexts?

• Do parents with different personal characteristics, family structures, financial resources, and employment patterns make different child care choices? Do some families have more or better options? Are some families able to make better use of their perceived options? How do geographic, community or cultural factors affect parent's decisions, utilization patterns and outcomes?

• What is the availability, accessibility, cost and quality of care for children from various ethnic groups, especially Native American children, recent immigrants, and non-English speaking children? Are there shortages of care for children in some age groups, ethnic groups, or special circumstances? What are the outcomes for these different groups of children?

Community and Neighborhood Factors

• What are the major variations when viewed through the lens of community and neighborhood? How does the availability of care vary in different types of communities and neighborhoods? Is the distribution of care different in neighborhoods with large welfare populations, neighborhoods with large numbers of low-income working families, and more affluent neighborhoods?

• What community factors are important? How do child care market forces, policies, programs and outcomes vary in different kinds of communities, including rural areas, inner cities, small towns, and economically distressed neighborhoods?

Policy Variations in the Social and Cultural Context

• How do State and local child care policies and programs affect the choices parents make and are able to sustain?

• How do state and local policies affect child care availability, accessibility, affordability, utilization and outcomes for current TANF recipients, former TANF recipients, low-income families who are not part of the welfare system?

• How do policies and programs affect teen parents, recent immigrants, families who work non-standard hours, single parents, parents with significant health problems and others for whom child care can make a critical difference?

• What are the outcomes for different groups of parents in terms of education, employment, wage progression and job stability? What are their outcomes in terms of family variables?

Part III. Field Initiated Child Care Research Projects and Child Care Policy Research Partnerships

Part III includes descriptions and requirements for Field Initiated Child Care Research Projects (Priority Area 1) and Child Care Policy Research Partnerships (Priority Area 2). Instructions for completing applications are included, as are evaluation criteria and funding procedures.

Priority Area I. Field Initiated Research Projects

A. Purpose

The purpose of this priority area is to stimulate child care research that helps States, communities, and the Child Care Bureau respond to emerging issues and questions in a timely and direct manner. Projects funded under this priority area must contribute significantly to the overall research agenda, help build the research infrastructure, and lay the foundation for informed policy and practices. Grantees will be expected to produce significant findings by the end of the first budget period.

B. Priorities

Field Initiated Child Care Research Projects are expected to focus on one or more of the questions included in Part II. These questions were developed from input received from researchers, policy makers and practitioners during the research planning process described in Part I.

There is the particular need to study important issues faced by local communities in order to understand the characteristics of child care today. Child care markets operate at the local level. We want to better understand market dynamics, how child care demand and supply interact, and how child care intersects with family, work, school, and other community institutions.

Field Initiated Child Care Research Projects will focus largely on local-level issues in order to understand the intricacies of child care demand, supply, quality and unmet need in different types of communities, cultural contexts, policy contexts, and populations. Projects may be stand-alone studies or may link with other studies to add sites, expand samples, add study components, add populations, or conduct special analyses. In addition, Field Initiated Child Care Research Projects may involve secondary analyses of completed data sets, including those from state or national studies when appropriate. Partnerships are not required for projects in this category but are encouraged if the resulting research will be more significant or complete than could be accomplished by a single organization. Projects will also be encouraged to take advantage of “natural experiments” to better understand how changes in state and local child care policy (such as devolution of responsibility for subsidy programs to local offices) may be affecting child care patterns and outcomes in different policy contexts.

The Child Care Bureau is especially interested in funding projects that address local issues of national significance where information is particularly lacking. For example, there is very limited information about informal care provided by relatives, friends, neighbors, and other community caregivers operating outside the formal system. Very little is known about the characteristics of providers in all types of facilities, how they view their work, or the nature of children's care experiences. Additionally, some populations of children and families are underrepresented in existing research.

The following are issues of special priority for Field Initiated Child Care Research Projects: culturally and linguistically diverse populations and cultural influences on child care; child care for infants and toddlers; child care for children with disabilities, chronic illnesses, and other special needs; issues related to children's out-of-school time; informal care provided by relatives, friends, neighbors, and other community caregivers operating outside the formal system; issues related to health, safety, and quality of care; children's development and well-being in care; social and emotional supports needed for a healthy child care environment; and, the impact of Federal and State efforts to improve the quality of care. Applications dealing with other important issues are also invited.

C. Number of Awards

Approximately 8-10 Field Initiated Research Projects will be funded in Fiscal Year 2000, subject to the availability of funds and results of the evaluation process.

D. Project Duration, Funding Levels and Budget Periods

Field Initiated Child Care Research Projects will be awarded for project periods of up to three years. The Child Care Bureau expects to invest an average of $225,000 per project for the initial 12-month budget period, with a range of approximately $150,000—$300,000 for each project. Non-competitive applications for continuation of Field Initiated Child Care Research Projects will be considered in fiscal years 2002 and 2003 with up to $200,000 per project being available for a twelve-month period. Applications for continuation grants funded beyond the 12-month budget period, but within the 36-month project period, will be entertained in the subsequent year on a noncompetitive basis, subject to the availability of funds from future appropriations, satisfactory progress of the grantee, and a determination that continued funding is in the best interest of the government.

E. Federal Share

To maximize the Federal investment in Field Initiated Child Care Research Projects and in the interest of project sustainability, a financial commitment by the applicant organization (or other participating entities) is required. The Federal share may comprise no more than 80 percent of total project costs. Grantee contributions may be in cash or in-kind contributions of staff time, employee benefits, facilities, utilities, equipment, materials, supplies or other forms of project support.

F. Eligible Applicants

Eligible applicants include public agencies, non-profit organizations, and for-profit entities that agree to waive their fees.

(1) Public agencies include state or local child care agencies; education agencies, welfare or other human services agencies, public schools, colleges and universities; and other public agencies with an interest in child care.

(2) Non-profit agencies include, but are not limited to, community child care and early childhood programs, child care resource and referral programs, professional organizations, schools, colleges and universities, civic and community groups, and foundations.

(3) For-profit entities include, but are not limited to, child care businesses, private research corporations, and other profit-making organizations. These entities are only eligible to receive a grant directly if they agree to waive their fees. However, they may participate in projects as partners without such a waiver.

G. Data Ownership

Raw data are the property of the agency or organization where the data reside (for instance, the State agency or resource and referral entity.) Working data files constructed for research belong to the grantee carrying-out the research, but analyses of those data cannot be released without the approval of the agency that owns the original data. Once a study has been completed and released, clean, documented public use files must be prepared and archived according to specifications supplied by the Child Care Bureau. These public use data files will be the property of the Federal government and will remain in the public domain for secondary analysis by other researchers.

Priority Area 2. Child Care Policy Research Partnerships

A. Purpose

The Child Care Policy Research Partnerships expand upon a strategy that has proven successful in stimulating collaboration among researchers, policy makers and practitioners, facilitating interdisciplinary approaches and cross-state research on critical issues, and providing rapid responses to State child care administrators' questions.

The Child Care Bureau has funded two waves of Child Care Research Partnerships which collectively operate as the Child Care Policy Research Consortium. The purpose of the Consortium is to increase and strengthen the capacity for cross-cutting research on critical child care issues. Partners are working to better understand issues concerning: (1) The child care needs, utilization patterns, and outcomes for low-income families, including welfare recipients, those moving from welfare to work, and the working poor; (2) the child care opportunities and constraints which affect low-income families and children under new welfare policies, changing State and local child care systems, and emerging market conditions; and (3) the availability, cost, quality, and other critical features of subsidized child care services. Information about the Consortium, including project descriptions and publications, can be found on the Child Care Bureau's web page at http://www.acf.dhhs.gov/programs/ccb.

The new Child Care Policy Research Partnerships will expand the Child Care Policy Research Consortium and contribute to ongoing activities. This approach is intended to help the Child Care Bureau build a sound research infrastructure, identify and respond to critical issues from a variety of professional perspectives, and develop cross-cutting strategies for research. Partnerships funded under this priority area must also contribute significantly to the broader research agenda and help lay the foundation for informed policy and practice. Grantees will be expected to produce significant findings by the end of their first 12-month budget period.

B. Priorities

The Child Care Bureau is particularly interested in partnerships that can help address important policy issues faced by State administrators who must make immediate decisions regarding the allocation of child care resources, achieve employment-related goals for parents, and meet growing needs. Applicants are referred to the key questions in Part II and asked to develop their applications around statewide or cross-state issues such as unmet need or quality.

The second goal for the new partnerships is to stimulate greater collaboration and interdisciplinary research on critical issues for child care policies, programs and outcomes affecting children and families. For example, two or more states might produce comparable analyses to better understand child care in inner cities, rural areas, or selected populations, or to address some other cross-cutting theme. A third goal is to develop longitudinal data sets from child care subsidy programs, regulatory information systems, resource and referral data systems, and other administrative systems. It is hoped that these new partnerships will also help increase the comparability of information made available through different data systems and improve methods for linkage and secondary analysis of completed data sets.

Ongoing studies might also be replicated, expanded, linked, or otherwise utilized in the development of a comprehensive and cohesive research strategy. Among the existing partnerships, for example, a Florida study looked at where parents receiving child care assistance work (Griesinger, Chipty and Witte and Lee, Ohlandt & Witte). This study led to the creation of a program in Florida in which funds were appropriated to match employer child care contributions. Alabama, California, Massachusetts, Oregon, and Washington, D.C. have replicated this study. Other studies being carried out within the consortium are exploring child care availability, quality, and unmet need in different States and communities. References and project descriptions are contained in the Child Care Policy Research Consortium Executive Summary on the Child Care Bureau's web page.

New partnerships may also take on new data collection activities and efforts to improve research methods and measures. Other areas of special priority for new Child Care Policy Research Partnerships are subsidies, waiting lists, duration of care, quality initiatives, low-income families, and families transitioning off welfare, and partnerships among child care, Head Start, and State pre-kindergarten programs toward providing full-day, full-year services.

C. Number of Awards

Four-to-six Child Care Policy Research Projects will be funded in Fiscal Year 2000, subject to the availability of funds and results of the evaluation process.

D. Project Duration, Funding Levels and Budget Periods

Child Care Policy Research Projects will be awarded for project periods of up to three years. The Child Care Bureau expects to invest up to $300,000 during the initial 12-month funding period for each project. Initial grant awards will be for a 12-month budget period. Non-competitive applications for continuation of Child Care Policy Research Projects will be considered for in fiscal years 2002 and 2003 with up to $200,000 per project being available for a 12-month period. Applications for continuation grants funded beyond the 12-month budget period, but within the 36-month project period, will be entertained in the subsequent year on a noncompetitive basis, subject to the availability of funds from future appropriations, satisfactory progress of the grantee, and a determination that continued funding is in the best interest of the government.

E. Federal Share

To maximize the Federal investment in Child Care Policy Research Partnership Projects and in the interest of project sustainability, a financial commitment by the applicant organization (or other participating entities) is required. The Federal share may comprise no more than 80 percent of total project costs. Grantee contributions may be in cash or in-kind contributions of staff time, employee benefits, facilities, utilities, equipment, materials, supplies or other forms of project support.

F. Eligible Applicants

Eligible applicants include public agencies, non-profit organizations, and for-profit entities that agree to waive their fees. The State agency that administers the Child Care and Development Fund must be included in the partnership. Additionally, at least one member must be a research group affiliated with an accredited university or four-year college. Broadly-based partnerships are encouraged. For example, the following entities may be included: (1) Child care regulatory agencies and agencies that administer child care programs for low-income children and families; (2) resource and referral organizations which collect and maintain an ongoing data base of local or statewide information on child care demand and supply; (3) planning councils, commissions, advisory groups, and other organizations that participate in child care planning and policy making; (4) non-academic research organizations that conduct studies on child care markets, populations, services, policies or other relevant aspects of child care; (5) Tribal, county or local agencies that administer child care subsidy programs; (6) early childhood programs such as public or private child care centers or Head Start; (7) family child care providers or networks of family child care homes; (8) professional organizations and associations; (9) providers or supportive services such as provider training, technical assistance, or consumer education; (10) civic groups and community organizations; (11) foundations and charitable organizations; and (12) other appropriate organizations and individuals.

G. Data Ownership

Raw data are the property of the agency or organization where the data reside (for instance, the State agency or resource and referral entity.) Working data files constructed for research belong to the grantee that is carrying-out the research, but analyses of those data may not be released without the approval of the agency that owns the original data. Once a study has been completed and released, clean, documented public use files must be prepared and archived according to specifications supplied by the Child Care Bureau. These public use data files will be the property of the Federal government and will remain in the public domain for secondary analysis by other researchers.

Project Description and Application Requirements

This section contains requirements for both Field Initiated Research Projects (Priority Area 1) and Child Care Policy Research Partnerships (Priority Area 2). Applicants in each of these priority areas should follow the same set of formatting instructions, but tailor their Project Narrative Statements to the specific priority area in which they are submitting an application.

A. Contents and Format of the Application

Applicants are cautioned to include all required forms and materials, organized according to the required format. The application packet must include the following items in order:

A cover letter that includes the announcement number, priority area and contact information.

(1) Standard Federal Forms

(a) Standard Application for Federal Assistance (SF 424 face sheet and SF 424A) must be included with the application.

(b) Standard Form 424B, ``Assurances: Non-Construction Programs.'' Applicants must sign and return the Standard Form 424B with their applications.

(c) Certifications Regarding Lobbying. Applicants must provide a certification regarding lobbying when applying for an award in excess of $100,000. Applicants must sign and return the certification with their applications.

(d) Disclosure of Lobbying Activities. Applicants must disclose lobbying activities on the Standard Form LLL when applying for an award in excess of $100,000. Applicants who have used non-Federal funds for lobbying activities in connection with receiving assistance under this announcement shall complete a disclosure form to report lobbying. Applicants must sign and return the disclosure form, if applicable, with their applications.

(e) Certification Regarding Drug-Free Workplace Requirements. Applicants must make the appropriate certification of their compliance with the Drug-Free Workplace Act of 1988. By signing and submitting the application, the applicant is providing the certification and need not mail back the certification with the application.

(f) Certification Regarding Debarment, Suspension, and Other Responsibility Matters. Applicants must make the appropriate certification that they are not presently debarred, suspended, or otherwise ineligible for an award. By signing and submitting the application, the applicant is providing the certification and need not mail back the certification with the application.

(g) Protection of Human Subjects: Assurance, Identification, Certification, and Declaration.

(h) Certification Regarding Environmental Tobacco Smoke. Applicants must make the appropriate certification of their compliance. By signing and submitting the application, the applicant is providing the certification and need not mail back the certification with the application.

(2) For-profit entities wishing to receive a grant directly must provide a letter indicating their willingness to waive their fees. Non-profit organizations must submit proof of non-profit status in the application at the time of submission. The applicant can demonstrate proof of non-profit status in any one of three ways:

(a) By providing a copy of the organization's listing in the Internal Revenue Service's (IRS) most recent list of tax-exempt organizations described in Section 501(c3) of the IRS code;

(b) By providing a copy of the currently valid IRS tax exemption certificate; or

(c) By providing a copy of the articles of incorporation bearing the seal of the State in which the corporation or association is domiciled.

(3) Executive Order 12372—Single Point of Contact. Where appropriate, include a competed SPOC certification with the date of SPOC contact entered on page 1, line 16 of the SF424 face sheet.

(4) Table of Contents

(5) Project Abstract (not to exceed one page) for use in official briefings, decision packages, and public announcement of awards

(6) Project Narrative Statement

(a) Issues, Objectives and Significance

(b) Research Design and Methodology

(c) Management Plan

(d) Staff Qualifications and Commitment

(e) Organizational Capability

(f) Fiscal Resources and Project Budget

(7) Appendices: All supporting materials and documents should be organized into appropriate appendices and securely bound in to the application package. Applicants are reminded that the total page limitation applies to both narrative text and supporting materials.

(a) Contact Information for all Key Staff

(b) Resumes

(c) Letters of Support, if appropriate

(d) Other

(8) Number of Copies and Binding: An original and two copies of the complete application packet must be submitted. Each copy of the application should be securely stapled in the upper left-hand corner, clipped, or enclosed in a quick-release binder. Because each application will be duplicated for the review panel, do not use non-removable binders. Do not include tabs, plastic inserts, brochures, videos, or any other items that cannot be photocopied.

B. Project Narrative Statement

The Project Narrative Statement contains most of the information on which applications will be competitively reviewed. The Project Narrative should be carefully developed in accordance with the research goals and expectations described for the priority area in which the applicant is submitting a proposal, the requirements described in this section, and the evaluation criteria and selection factors described below.

The Project Narrative sets forth the technical proposal and describes how it will be carried out. This statement should be organized as follows: (1) Issues, Objectives, and Significance; (2) Research Design and Methodology; (3) Management Plan; (4) Staff Qualifications and Commitment; (5) Organizational Capability; and (6) Fiscal Resources and Project Budget.

Clarity and conciseness are of utmost importance. ACYF strongly encourages applicants to limit their applications to 200 pages, double-spaced, with standard one-inch margins and 12 point fonts. This includes the entire Project Narrative Statement including text, tables, charts, graphs, resumes, corporate statements and appendices.

(1) Issues, Objectives, and Significance

In this section, applicants demonstrate their understanding of the relevant literature on critical issues and existing knowledge, describe their objectives, and demonstrate the significance of their proposal.

Applicants are expected to show how their proposal will address the Child Care Bureau's research agenda, answer key questions, and contribute to the child care research infrastructure. Specifically, applicants are expected to demonstrate a command of the policy and research literature in child care, as well as emerging issues. The proposal is expected to demonstrate understanding of current policies and programs, to show how the proposed research would further understanding, and to suggest practical applications which might be derived from the findings.

Applications should clearly show how the research would build on the current knowledge base and contribute to policy, practice and future research. Applicants are asked to consider the significance, reliability, and validity of existing data pertaining to key questions. In addition, applicants should identify important gaps in the literature and areas in which findings are contradictory or ambiguous. It will also be important to consider what demographic, economic, and social data are available as a context for the proposed child care research. A bibliography of relevant literature must be supplied.

(2) Research Design and Methodology

This section of the Project Narrative Statement requires that the applicant describe the technical approach for addressing issues and achieving objectives described in the previous section (B.1). In this section the applicant should clearly demonstrate their ability to produce significant and usable results within the first 12-month budget period in the event that Federal funding is not available for subsequent periods. How these early findings would influence decisions about subsequent stages of the research and contribute to an ongoing project should be addressed.

The methodological discussion must include technical details of the proposed research design, including (as relevant): (a) Conceptual framework for the research; (b) research questions, hypotheses, and variables; (c) data sources and sampling plan; (d) new data on human subjects; (e) administrative data; (f) secondary analysis of existing data sets; (g) linkages with other research; (h) data collection; (i) data processing and statistical analysis; and, (j) product development and information dissemination. Qualitative studies with well-defined methodology are invited as well as those that use quantitative methodology. As part of the design section, applicants should discuss the strengths and limitations of all proposed approaches and techniques. Applicants are also asked to provide a flow chart or table showing interrelationships among the proposed research issues, questions, variables, and data elements.

(a) Conceptual Framework for the Research

Based on the issues and objectives described in B.1, present the conceptual framework for the proposed research, including the approach to be taken and why this approach was chosen.

(b) Research Questions, Hypotheses and Variables

Based on the conceptual framework for the research, present: (a) Areas of inquiry to be explored; (b) specific research questions and hypotheses; and (c) research variables and constructs. This discussion should relate back to the earlier discussion of Issues, Objectives and Significance (B.1) and lead into the design elements that follow.

(c) Data Sources and Sampling Plan

This section should include a detailed plan for identifying data sources and obtaining an appropriate sample to achieve objectives of the proposed research.

(d) New Data on Human Subjects

If new data are to be collected on human subjects, either independently or in conjunction with another ongoing study (e.g., by adding a new sample or an additional measure), describe the characteristics of the target population and provide a rationale for any sample stratification based on personal characteristics of individuals (such as ethnicity, income, marital status, or age of child.)

(e) Administrative Data

If data would be compiled from service delivery records of State or local agencies, from resource and referral files, from records maintained by child care facilities, or from other primary data sources, describe the nature of the data and how they would be accessed, characteristics of the sample and how it would be constructed, and how confidentiality of individual records would be maintained.

(f) Secondary Analysis of Existing Data Sets

If secondary analyses would be conducted on completed data sets, describe the original research, its appropriateness and limitations for this study. Describe the nature, scope and representativeness of the original sample and characteristics of the data (including data quality). Applicants who propose to conduct secondary analyses on large data sets, such as those from the Census Bureau, Bureau of Labor Statistics, and other statistical organizations are expected to discuss how their analyses could be used to help profile national, regional or state-level child care market parameters and trends. If data sets from completed child care studies are to be analyzed, applicants are asked to suggest ways in which such data could be used by others to amplify or extend the proposed research.

(g) Linkages With Other Research

If the proposed project would involve linkage with ongoing research, describe the ongoing research design and status, how the proposed study would benefit from and contribute to it, how the technical aspects of the linkage would be structured and carried out, and how the linked studies would address the goals of this announcement. Describe how the proposed research will make a distinct contribution while building on ongoing research. Include a letter of cooperation from the individual/organization conducting the research which details the status of the data collection, procedures to ensure data quality, timeliness of data availability and applicant access.

(h) Data Collection

Describe data collection procedures and safeguards for data quality. Discuss procedures to protect human subjects, to maintain confidentiality of data, and to obtain consent for participation (if applicable).

(i) Data Processing and Statistical Analysis

Include a detailed plan for processing and analyzing data from all sources which illustrates how the analyses will meet the goals of this research. Discuss the procedures which would be used to clean data, ensure data quality, and prepare data tapes. Discuss plans for the analysis of data, including units of analysis, analytic techniques to be used with various types of data, statistical considerations including, but not limited to power analysis, attrition, response rates, etc., and the linkage of data sets, where appropriate. Describe documentation of the final data set and preparation of data for archiving by the Child Care Bureau.

(j) Product Development and Information Dissemination

Include a product development schedule and information dissemination plan which describes the products to be generated during the course of this research (such as technical papers or reports, summaries, briefings, conference presentations, doctoral dissertations, journal articles, internet applications, software and public use data tapes, and the final report). Describe the audiences for various products and the dissemination strategies that will be employed. Discuss which products might be collaboratively developed or disseminated to intended audiences.

(3) Management Plan

(a) The Management Plan is expected to describe a sound and workable plan of action for how the proposed project will be carried out. This section should detail how the project will be structured and managed, how the timeliness of activities will be ensured, how quality control will be maintained, and how costs will be controlled. Applicants should discuss their management of the project as a whole, and the management and coordinating roles of any partners.

(b) Provide a diagram showing the organizational structure of the project and the functional relationships among components.

(c) If the project is a partnership, describe how the project will be managed by the lead organization to ensure that members of the partnership operate as a cohesive research team and that cross-cutting goals of the project are carried out efficiently and cost-effectively.

(d) Describe the make-up and role of any steering or management committees, technical work groups, advisory panels, and other coordinating bodies.

(e) Produce a project management chart that lays out sequence and timing of the major tasks and subtasks, responsibilities and time commitments of staff, important milestones, reports, and completion dates.

(f) Discuss potential problems or difficulties with the proposed management approach, including factors which may affect the quality of the research or its outcomes, may undermine the ability of partners to collaborate effectively, and may hinder the early sharing, review and dissemination of information.

(4) Staff Qualifications and Commitment

In this section, applicants must provide evidence that project staff have the experience, expertise and commitment of sufficient time to carry out the proposed project on time, within budget, and with a high degree of quality.

(a) Identify all key staff positions for this project, the professional requirements for each, the proportion of time staff holding these positions will be committed to the project, the period of time they will be employed, and whether their continued employment will be dependent solely on the funds to be awarded under this announcement.

(b) Provide evidence that individuals proposed for key positions have the necessary technical skill and experience to successfully carry out their assigned roles.

(c) Where key positions are currently vacant, include a position description outlining the qualifications necessary to carry out the duties and responsibilities of each. Include letters of commitment from any key individuals who have been selected but not yet hired.

(d) If a data collection team must be assembled, describe the makeup of the team, what expertise will be represented, and how individuals will be selected.

(e) Identify all proposed consultants or advisors, document their expertise, and describe how their services will be utilized. Include letters of commitment or intent if possible.

(f) Identify the authors of the proposal and describe their continuing role in the project if funded.

(5) Organizational Capacity and Fiscal Resources

In this section, the applicant must demonstrate that the official grantee has the organizational capacity and fiscal resources to successfully carry-out the project on time and to a high standard of quality, including the capacity to resolve a wide variety of technical and management problems that may occur.

(a) Provide evidence of sufficient organizational resources to ensure successful project management, compliance with terms and conditions of the grant, and oversight of the proper use of Federal funds.

(b) If the project is a partnership, provide evidence that all partners have the ability, willingness and flexibility to collaborate effectively with one another in carrying out the proposed project, and that the partnership as a whole could effectively participate in a larger research consortium. Include examples of past or current partnerships that demonstrate the ability to carry out collaborative research. Describe how each partner was included in the planning of the project. Include letters of specific commitment or support from each partner. Describe all cooperative agreements, subcontracts and other formal relationships within the partnership. Partners who will provide access to data or records must provide a letter stipulating the terms of their agreement with the researchers. Describe the future commitment each partner will make to ensure success of the collaboration as it evolves.

(c) Include a separate two-page organizational capability statement for each participating organization which documents the partner's ability to carry out its assigned roles and functions.

(d) Describe the relationship between this project and other relevant work planned, anticipated or underway by the applicant or its partners. Include funding sources for work in progress.

(e) Provide a list of research and financial partners including the name and address of each organization, the names of its director and primary contact for this proposal, and the telephone, fax and internet numbers of each.

(6) Fiscal Resources and Project Budget

(a) Describe the nature and extent of financial participation from all sources.

(b) Present a detailed budget to demonstrate that the project will have adequate resources to carry out the work on time and with a high degree of quality.

(c) Include a detailed budget narrative which describes and justifies line item expenses within the budget categories listed on the Standard Form 424 and 424A. (Line item allocations and justification are required for both Federal and non-Federal funds.) If project funds will be subcontracted, a detailed budget for the use of those funds must be also included. The budget should include funds to allow key representatives from Field Initiated Child Care Research Projects and Child Care Policy Research Partnerships to participate in an annual meeting of the Child Care Policy Research Consortium in Washington, D.C.

(d) Describe the extent to which funds, staff time, in-kind services, and other resources have been committed to the research effort during the planning period.

(e) Describe what other resources are expected to help support the proposed research, including existing commitments and negotiations in progress. Describe anticipated efforts to obtain other funding partners throughout the project.

Evaluation and Selection

A. Screening and Panel Review

Each application will be screened to determine whether the applicant organization is eligible as specified in each of the priority areas. Applications from ineligible organizations will be excluded from the review.

(1) The review will be conducted in Washington, D.C. Expert reviewers will include researchers, Federal or State staff, child care administrators and other individuals experienced in the study of child care demand and supply, child care delivery systems, welfare and supportive services, early child development and education, parental choice and involvement, and other relevant areas.

(2) A panel of at least three reviewers will evaluate each application to determine the strengths and weaknesses of the proposal in terms of the Bureau's research goals and expectations for the priority area under consideration, requirements for the Project Narrative Statement, and the evaluation criteria listed below.

(3) Panelists will provide written comments and assign numerical scores for each application. The indicated point value for each criterion is the maximum numerical score for that criterion. The assigned scores for each criterion will be summed to yield a total evaluation score for the proposal.

(4) In addition to the panel review, the Bureau may solicit comments from other Federal offices and agencies, from the states, from relevant non-governmental organizations, and from individuals whose particular expertise is identified as necessary for the consideration of technical issues arising during the review. Their comments, along with those of the panelists, will be considered by the Bureau in making funding decisions. The Bureau will also take into account the best combination of proposed projects to meet overall research goals.

B. Evaluation Criteria

Eligible applications will be scored competitively against the published evaluation criteria described below. These criteria will be used in conjunction with other expectations, priorities and requirements set forth throughout this announcement to evaluate how well each proposal addresses the goals and priorities for funding.

(1) Significance, Issues and Objectives (maximum of 10 points)

(a) The extent to which the application reflects a solid understanding of critical issues, information needs, and research goals.

(b) The extent to which the proposed project framework is appropriate, feasible, and would significantly contribute to the importance, comprehensiveness, and quality of the proposed research.

(c) The effectiveness with which the discussion articulates the current state of knowledge relative to issues being addressed, including: (1) critical child care issues and the complex interrelationships among major variables; (2) the significance of these issues and variables for child care policies and programs; (3) how current knowledge would be brought to bear on the proposed research; and (4) how the research would benefit various audiences.

(d) The importance of research priorities identified for the first budget period, the degree to which early findings would be useful for policy and practice, and the significance of these data for the ongoing research goals if the project is continued beyond the first 12-month period.

(2) Research Design and Methodology (maximum of 40 points)

The extent to which the applicant's proposed Research Design:

(a) Appropriately links critical research issues, questions, variables, data sources, samples, and analyses;

(b) Employs technically sound and appropriate approaches, design elements and procedures;

(c) Reflects sensitivity to technical, logistical, cultural and ethical issues that may arise;

(d) Includes realistic strategies for the resolution of difficulties;

(e) Adequately protects human subjects, confidentiality of data, and consent procedures, as appropriate;

(f) Includes an effective plan for the dissemination and utilization of information by researchers, policy-makers, and practitioners in the field; and

(g) Effectively utilizes collaborative strategies, as appropriate to the project goals and design.

(3) Management Plan (maximum of 10 points)

The extent to which the Management Plan:

(a) Presents a sound, workable and cohesive plan of action demonstrating how the work would be carried out on time, within budget and with a high degree of quality;

(b) Includes a reasonable schedule of target dates and accomplishments;

(c) Presents a sound administrative framework for maintaining quality control over the implementation and ongoing operations of the study;

(d) Presents a sound plan for coordination of activities carried out by partners and demonstrates an effective approach to team-building among project staff, consultants and advisors, and partnering organizations; and

(e) Demonstrates the ability to gain access to necessary organizations, subjects, and data.

(4) Staff Qualifications and Commitment (maximum of 20 points)

(a) The extent to which key staff, consultants, data collectors and other necessary personnel demonstrate competence in areas addressed by the proposed research, including relevant background, experience, training and work on related research or similar projects.

(b) The extent to which staffing is adequate for research design, sampling, field work, data processing, statistical analysis, reporting, collaboration with other researchers, and information dissemination.

(5) Organizational Capacity (maximum of 10 points)

(a) The extent to which (1) the applicant's facilities and organizational experience are adequate to carry out the tasks of the proposed project; (2) the applicant can effectively and efficiently administer a project of the proposed size, complexity and scope; (3) the applicant has the capacity to coordinate activities with other organizations for the successful accomplishment of project objectives; and (4) the applicant has the capacity to carry out all proposed functions and roles.

(b) If the project is a partnership, the extent to which; (1) the partnership is well structured, with important and relevant roles for participating organizations; (2) partners are appropriate and significantly committed to research goals; (3) partners have the ability to carry out collaborative research, both within the proposed Partnership and as a member of the larger Consortium; (4) the partners will contribute adequate organizational resources; and (5) the partnership has significant fiscal commitment and support.

(6) Fiscal Resources and Project Budget (maximum of 10 points)

(a) The extent to which proposed project costs are reasonable, the funds are appropriately allocated across component areas, and the budget is sufficient to accomplish the objectives.

(b) The extent to which the applicant has sufficient fiscal capacity within the organization to ensure that unanticipated problems can be resolved and that the project will be completed on time and with a high degree of quality.

(c) The extent to which the applicant will contribute to the project cost and to which the project can be sustained in the event that future funding is not available through ACF.

C. The Selection Process

The Associate Commissioner, Child Care Bureau, Administration on Children, Youth and Families, will make the final selection of the applicants to be funded. Applications may be funded in whole or in part depending on: (1) the rank order of applicants resulting from the competitive review; (2) staff review and consultations; (3) the combination of projects which best meets the Bureau's research objectives; (4) the funds available; and (5) other relevant considerations.

Selected applicants will be notified through the issuance of a Financial Assistance Award which sets forth the amount of funds granted, the terms and conditions of the cooperative agreement, the effective date of the award, the budget period for which support is given, and the total project period for which support is provided.

D. Funding Date

It is anticipated that successful applications for Field Initiated Child Care Research Projects and Child Care Policy Research Partnerships will be awarded by June 1, 2000.

Part IV. Priority Area 3: Child Care Research Scholars

A. Purpose

This priority is intended to strengthen the child care research infrastructure by supporting the development of researchers with a grasp of child care research and its implications to policies and programs. Under this priority area, support will be provided to doctoral candidates in conducting dissertation research on child care issues under the auspices of the Child Care Bureau and the educational institution in which the student is enrolled. Dissertation research under this priority must support the Bureau's research agenda including addressing important questions about child care that have implications to families and children. The student is expected to gain experience and expertise in theories and methods related to child care, child development, early childhood education, child care program administration, or child care policy.

B. Number of Awards

Up to six scholarships will be awarded. No individual educational institution will be funded for more than one candidate unless six applications from different universities or colleges do not qualify for support.

C. Project Period

Competitive awards will be for a 12-month budget period although project periods may be for up to 24 months. Subsequent year awards (12 months) will be considered on a non-competitive basis subject to the availability of funds from future appropriations, satisfactory progress of the grantee, and a determination that continued funding is in the best interest of the government. Significant findings by the end of the first budget period will be necessary to demonstrate satisfactory progress on the part of the grantee. A subsequent year award will not be approved if the student has graduated by the end of the first year.

D. Funding Levels

Up to $40,000 will be awarded to each successful applicant for a 12-month budget period. If the applicant expects to receive a doctorate by the end of the first one-year budget period, the application should request funding for a single grant period.

E. Matching Requirements and Non-Federal Share

There are no matching requirements.

F. Maximum Federal Share

(1) The maximum federal share is $40,000 for the first 12-month budget period and $30,000 for one subsequent 12-month period, subject to the availability of funds from future appropriations.

(2) All monies must be used for the dissertation research including required personnel costs, travel, and other expenses directly related to the research.

G. Eligible Applicants

(1) Eligible applicants include universities or colleges on behalf of doctoral candidates who have a dissertation proposal approved by their doctoral committee and who anticipate completing a child care-related dissertation within the two-year scholarship period.

(2) To be eligible to administer the grant on behalf of the student, the institution must be fully accredited by one of the regional accrediting commissions recognized by the Department of Education. Although the faculty advisor will be listed as the Principal Investigator, this grant is intended for dissertation work being conducted by a doctoral candidate. Information about both the graduate student and the student's faculty advisor is required as part of this application. Any resultant grant award is not transferable to another student.

H. Additional Requirements

(1) Research projects may include independent studies conducted by the doctoral candidate or well-defined portions of a larger study being conducted by a principal investigator holding a faculty position or senior research position and for which the graduate student will have primary responsibility.

(2) The student must be the author of the proposal.

(3) Research projects must use sound quantitative or qualitative research methodologies or some combination of the two.

(4) Given the size of these grants, sponsoring universities and colleges are encouraged to waive their customary indirect charges.

I. Project Description and Application Requirements

Applicants are cautioned to include all required forms and materials, organized according to the required format. The application packet must include the following items in order:

(1) A cover letter that includes the Announcement number, priority area, and contact information.

(2) Standard Federal Forms.

(a) Standard Application for Federal Assistance (SF 424 face sheet and SF 424A) must be included with the application.

(b) Standard Form 424B, “Assurances: Non-Construction Programs.” Applicants must sign and return the Standard Form 424B with their applications.

(c) Certification Regarding Lobbying. Applicants must provide a certification regarding lobbying when applying for an award in excess of $100,000. Applicants must sign and return the certification with their applications.

(d) Disclosure of Lobbying Activities. Applicants must disclose lobbying activities on the Standard Form LLL when applying for an award in excess of $100,000. Applicants who have used non-Federal funds for lobbying activities in connection with receiving assistance under this announcement shall complete a disclosure form to report lobbying. Applicants must sign and return the disclosure form, if applicable, with their applications.

(e) Certification Regarding Drug-Free Workplace Requirements. Applicants must make the appropriate certification of their compliance with the Drug-Free Workplace Act of 1988. By signing and submitting the application, the applicant is providing the certification and need not mail back the certification with the application.

(f) Certification Regarding Debarment, Suspension, and Other Responsibility Matters. Applicants must make the appropriate certification that they are not presently debarred, suspended, or otherwise ineligible for an award. By signing and submitting the application, the applicant is providing the certification and need not mail back the certification with the application.

(g) Protection of Human Subjects: Assurance, Identification, Certification, and Declaration.

(h) Certification Regarding Environmental Tobacco Smoke. Applicants must make the appropriate certification of their compliance. By signing and submitting the application, the applicant is providing the certification and need not mail back the certification with the application.

(3) Table of Contents.

(4) Project abstract (not to exceed one page) for use in official briefings, decision packages, and public announcement of awards.

(5) The student's approved dissertation proposal, demonstrating an understanding of current child care issues, presenting a conceptual framework for the proposed research, and detailing the research design and implementation plan, will serve as the basic project description for purposes of the application.

(6) A project summary that includes an overview of the proposed research and a management plan detailing how the work will be accomplished. The management plan will include quantitative monthly or quarterly projections of the accomplishments to be achieved for each function or activity. The project summary should include a statement of how the proposed research will relate to the research agenda, goals, and priorities of the Child Care Bureau, the significant results to be achieved within the first budget period, and how research findings will be disseminated to colleagues and the public. This section should be no more than twenty double-spaced pages with one-inch margins and 12-point font.

(7) Staff and Position Data. A curriculum vitae should be provided for both the student and faculty advisor. An official transcript should be included for the student that reflects courses completed at the Masters and Ph.D levels.

(8) Faculty advisor letter. The application must include a letter from the faculty advisor stating that he or she has reviewed and approved the proposal, certifying the status of the student as a doctoral candidate with an approved dissertation proposal, the project as dissertation research, and describing how the advisor will monitor the student's work.

An original and two copies of the full application packet must be submitted. All supporting materials and documents should be organized into appropriate appendices and securely bound in the application package. Each copy of the application should be securely stapled in the upper left-hand corner, clipped, or enclosed in a quick-release binder. Because each application will be duplicated for the review panel, do not use non-removable binders. Do not include tabs, plastic inserts, brochures, videos, or any other items that cannot be photocopied.

J. Evaluation and Selection

(1) Each application will be screened to determine whether the applicant organization is eligible as specified in Part IV, Section G, above. Applications from ineligible organizations will be excluded from the review.

(2) Panel Review.

(a) The review will be conducted in Washington, D.C. Expert reviewers will include researchers, Federal or State staff, child care administrators and/or other individuals experienced in the study of child care demand and supply, child care delivery systems, welfare and supportive services, early child development and education, parental choice and involvement, and other relevant areas.

(b) A panel of at least three reviewers will evaluate each application to determine the strengths and weaknesses of the proposal in terms of the Bureau's research agenda, application requirements, and evaluation criteria listed in this section.

(c) Panelists will provide written comments and assign numerical scores for each application. The indicated point value for each criterion is the maximum numerical score for that criterion. The assigned scores for each criterion will be summed to yield a total evaluation score for the proposal.

(3) In addition to the panel review, the Bureau may solicit comments from other Federal offices and agencies, from the States, from relevant non-governmental organizations, and from individuals whose particular expertise is identified as necessary for the consideration of technical issues arising during the review. Their comments, along with those of the panelists, will be considered by the Bureau in making funding decisions. The Bureau will also take into account the best combination of proposed projects to meet overall research goals.

K. Evaluation Criteria

Eligible applications will be scored competitively against the published evaluation criteria described below. These criteria will be used in conjunction with the other expectations, priorities and requirements set forth in this Announcement to evaluate how well each proposal addresses the Bureau's research agenda and the goals.

(1) Significance, Issues and Objectives (maximum of 20 points)

(a) The extent to which the application reflects a solid understanding of critical issues, information needs, and research goals.

(b) The extent to which the conceptual model, research issues, objectives and hypotheses are significant, well formulated and appropriately linked, reflect the Child Care Bureau's research agenda, and will contribute new knowledge and understanding.

(c) The extent to which the proposed project framework is appropriate, feasible, and would significantly contribute to the importance, comprehensiveness, and quality of the proposed research.

(d) The effectiveness with which the proposal articulates the current state of knowledge relative to issues being addressed, including: critical child care issues and the complex interrelationships among major variables; the significance of these issues and variables for child care policies and programs; how current knowledge would be brought to bear on the proposed research; and how the research would benefit various audiences.

(e) The importance of research priorities identified for the first budget period, the degree to which early findings would be useful for policy and practice, and the significance of these data for the ongoing research goals if the project is continued beyond the first 12-month period.

(2) Technical Approach (maximum of 40 points)

The extent to which the applicant's proposed Research Design:

(a) Appropriately links critical research issues, questions, variables, data sources, samples, and analyses;

(b) Employs technically sound and appropriate approaches, design elements and procedures;

(c) Reflects sensitivity to technical, logistical, cultural and ethical issues that may arise;

(d) Includes realistic strategies for the resolution of difficulties;

(e) Adequately protects human subjects, confidentiality of data, and consent procedures, as appropriate;

(f) Includes an effective plan for the dissemination and utilization of information by researchers, policy-makers, and practitioners in the field; and,

(g) Effectively utilizes collaborative strategies, as appropriate to the project goals and design.

(3) Management Plan (maximum of 20 points)

The extent to which the project summary provides a management plan that:

(a) Presents a sound, workable and cohesive plan of action demonstrating how the work would be carried out on time, within budget and with a high degree of quality;

(b) Includes a reasonable schedule of target dates and accomplishments;

(c) Presents a sound administrative framework for maintaining quality control over the implementation and ongoing operations of the study; and,

(d) Demonstrates the ability to gain access to necessary organizations, subjects, and data.

(4) Applicant Qualifications and Commitment (maximum of 10 points)

The extent to which the applicant:

(1) Demonstrates competence in areas addressed by the proposed research, including relevant background, experience, training and work on related research or similar projects; and

(2) Demonstrates necessary expertise in research design, sampling, field work, data processing, statistical analysis, reporting and information dissemination.

(5) Budget (maximum of 10 points)

The extent to which proposed project costs are reasonable, the funds are appropriately allocated across component areas, and the budget is sufficient to accomplish the objectives.

L. The Selection Process

The Associate Commissioner, Child Care Bureau, Administration on Children, Youth and Families, will make the final selection of the applicants to be funded. Applications may be funded in whole or in part depending on: (1) the rank order of applicants resulting from the competitive review; (2) staff review and consultations; (3) the combination of projects which best meets the Bureau's research objectives; (4) the funds available; and (5) other relevant considerations.

Selected applicants will be notified through the issuance of a Financial Assistance Award which sets forth the amount of funds granted, the terms and conditions of the cooperative agreement, the effective date of the award, the budget period for which support is given, and the total project period for which support is provided.

M. Funding Date

Anticipated date of funding is prior to June 1, 2000.

Part V. Priority Area 4: Child Care Research Fellowship Program

A. Purpose

The purpose of this priority area is to provide funding, through a cooperative agreement, to a partner organization that will work cooperatively with the Child Care Bureau to design and implement the Child Care Research Fellowship Program. We are seeking applications from organizations with experience in child care and research issues.

The primary purpose of the Fellowship Program is to strengthen the child care research infrastructure by supporting the development of researchers toward a thorough understanding of child care research and its implications to policies and programs including the Child Care and Development Fund. Individuals chosen to serve as Fellows will work with Child Care Bureau and Senior ACF officials, State-level policy-makers, members of federally-funded research projects, and others involved in child care research. In addition to a significant policy-related research assignment within the Child Care Bureau, Fellows will take part in educational and leadership development programs.

B. Priorities

The project under this priority area will be funded as a cooperative agreement in which substantial Federal participation is anticipated. The partner organization will work closely with Federal staff. The specific responsibilities of the Federal staff and the awardee will be negotiated prior to award of the cooperative agreement.

The development of the Fellowship Program will require an initial planning period in order to create an effective program that meets the goals of the Child Care Bureau. We anticipate that approximately three to five Fellows will be involved in the program each year (subject to the availability of funds from future appropriations), with each Fellowship lasting up to two years. Fellows should possess paid experience in some aspect of the child care or early childhood field, an interest and aptitude in research and research methods, and the desire to develop their knowledge and skills in the area of child care research and policy. Desirable qualifications include a degree with relevance to child care and early childhood services and five years of progressively responsible work experience related to child care or early childhood programs.

The partner organization will work collaboratively with the Child Care Bureau on, among other things:

(1) Conceptualization of the Fellowship Program and development of the overall project plan for implementation;

(2) Development of policies and procedures to govern the Fellowship Program;

(3) Establishment of recruitment strategies, screening, selection, and compensation/logistical support criteria;

(4) Management of the application and rating processes and recommendations for selection of individual Fellows; and

(5) Design and implementation of an orientation program and other group learning and developmental activities for the Fellows. These activities will include support to Fellows in determining a policy-related research project and in designing and carrying-out this project.

C. Number of Awards

The Bureau anticipates selecting one organization.

D. Project Period

The project period will be up to three years. The Child Care Bureau expects to invest up to $500,000 for an initial 12-month funding period. A non-competitive application for continuation will be considered in fiscal years 2002 and 2003 with up to $375,000 being available for a 12-month period. Applications for continuation grants funded beyond the 12-month budget period, but within the 36-month project period, will be entertained in the subsequent years on a noncompetitive basis, subject to the availability of funds from future appropriations, satisfactory progress of the grantee, and a determination that continued funding is in the best interest of the government.

E. Funding Levels

The expected funding level is $500,000 for the first 12-month funding period and $375,000 for subsequent 12-month periods (subject to the availability of funds from future appropriations).

F. Matching Requirements and Non-Federal Share

There is no matching requirement.

G. Maximum Federal Share

The maximum Federal share is not to exceed $500,000 for the first 12-month budget period.

H. Eligible Applicants

Universities and colleges, public agencies, non-profit organizations, and for-profit organizations agreeing to waive their fees.

I. Project Description and Application Requirements

In order to successfully compete under this priority area, applicants are cautioned to include all required materials, organized according to the required format. The application must include the following items in order:

(1) A cover letter that includes the Announcement number, priority area, and contact information.

(2) Standard Federal Forms.

(a) Standard Application for Federal Assistance (SF 424 face sheet and 424A); must be included with the application.

(b) Standard Form 424B, “Assurances: Non-Construction Programs.” Applicants must sign and return the Standard Form 424B with their applications.

(c) Certification Regarding Lobbying. Applicants must provide a certification regarding lobbying when applying for an award in excess of $100,000. Applicants must sign and return the certification with their applications.

(d) Disclosure of Lobbying Activities. Applicants must disclose lobbying activities on the Standard Form LLL when applying for an award in excess of $100,000. Applicants who have used non-Federal funds for lobbying activities in connection with receiving assistance under this announcement shall complete a disclosure form to report lobbying. Applicants must sign and return the disclosure form, if applicable, with their applications.

(e) Certification Regarding Debarment, Suspension, and Other Responsibility Matters. Applicants must make the appropriate certification that they are not presently debarred, suspended, or otherwise ineligible for an award. By signing and submitting the application, the applicant is providing the certification and need not mail back the certification with the application.

(f) Certification Regarding Environmental Tobacco Smoke. Applicants must make the appropriate certification of their compliance. By signing and submitting the application, the applicant is providing the certification and need not mail back the certification with the application.

(3) For-profit entities wishing to receive a grant directly must provide a letter indicating their willingness to waive their fees. Non-profit organizations must submit proof of non-profit status in the application at the time of submission. The applicant can demonstrate proof of non-profit status in any one of three ways: by providing a copy of the organization's listing in the Internal Revenue Service's (IRS) most recent list of tax-exempt organizations described in Section 501(c3) of the IRS code; by providing a copy of the currently valid IRS tax exemption certificate; or by providing a copy of the articles of incorporation bearing the seal of the State in which the corporation or association is domiciled.

(4) Executive Order 12372—Single Point of Contact. Where appropriate, a competed SPOC certification should be completed with the date of SPOC contact entered on page 1, line 16 of the SF424 face sheet.

(5) Table of Contents.

(6) Project abstract (not to exceed one page) for use in official briefings, decision packages, and public announcement of awards.

(7) Project Narrative Statement. The Project Narrative Statement contains most of the information on which Applications will be competitively reviewed. The Project Narrative should be carefully developed in accordance with the research goals and expectations, the requirements described in this section, and the evaluation criteria and selection factors described below. The Project Narrative should be organized as follows:

(a) Issues, Objectives and Significance. In this section, applicants demonstrate their understanding of current child care and child care research issues, describe their objectives, and demonstrate the significance of their proposal. Include a description of the applicant's understanding of the goals and purposes for the Fellowship Program.

(b) Approach. This section should include a sound and workable plan of action for how the proposed project will be carried out. Include a description of the approach and strategies that would be taken to design the program, to recruit potential participants, to support the implementation and maintenance of the Fellowship Program, and to evaluate the program's effectiveness.

(c) Management Plan. This section should detail how the project will be structured and managed, how the timeliness of activities will be ensured, how quality control will be maintained, and how costs will be controlled. Applicants should discuss their management of the project as a whole, and the management and coordinating roles of any partners.

(d) Staff Qualifications and Commitment. In this section, applicants must provide evidence that project staff have the experience, expertise and commitment of sufficient time to carry out the proposed project on time, within budget, and with a high degree of quality. Identify all key staff positions for this project, the professional requirements for each, the proportion of time staff holding these positions will be committed to the project, the period of time they will be employed, and whether their continued employment will be dependent solely on the funds to be awarded under this announcement. Provide evidence that individuals proposed for key positions have the necessary technical skill and experience to successfully carry out their assigned roles. Where key positions are currently vacant, include a position description outlining the qualifications necessary to carry out the duties and responsibilities of each. Identify the authors of the proposal and describe their continuing role in the project if funded. Include a staffing plan and assurances that the Project Director or another appropriate staff member will attend four meetings annually in Washington, DC to meet with Federal staff to discuss issues related to Fellowship Program implementation.

(e) Organizational Capability. In this section, the applicant must demonstrate that the official grantee has the organizational capacity and fiscal resources to successfully carry out the project on time and to a high standard of quality, including the capacity to resolve a wide variety of technical and management problems that may occur. Include a description of the applicant's experience that relates to programs of the kind envisioned in this announcement. Also describe the mission of the applicant's organization as it relates to the fields of child care and research, and how the Fellowship Program fits within that mission. Provide evidence of sufficient organizational resources to ensure successful project management, compliance with terms and conditions of the grant, and oversight of the proper use of Federal funds. Describe the relationship between this project and other relevant work planned, anticipated or underway by the applicant. Include funding sources for work in progress.

(f) Fiscal Resources and Project Budget. Present a detailed budget to demonstrate that the project will have adequate resources to carry out the work on time and with a high degree of quality. Include a detailed budget narrative which describes and justifies line item expenses within the budget categories listed on the Standard Form 424. (Line item allocations and justification are required for both Federal and non-Federal funds.) If project funds will be subcontracted, a detailed budget for the use of those funds must be also included. The budget should delineate between project administration costs as opposed to direct support to the Fellows individually and as a group. The budget should include stipends to Fellows. The stipend should be tiered to accommodate a range of education and experience and would parallel the Federal GS 12-14 range. Stipends should include funds to support fringe benefits. The average stipend and total amount of the budget which will be used for stipends for the Fellows should be delineated. It is anticipated that the major portion of the budget would be used for stipends and direct costs of the Fellows. The other expenses to support participation of the Fellows should also be described and budgeted within the budget.

(8) Appendices: All supporting materials and documents should be organized into appropriate appendices and securely bound in to the application package. Included should be contact information for all key staff, resumes', and letters of support.

(9) Other: An original and two copies of the complete application packet must be submitted. Each copy of the application should be securely stapled in the upper left-hand corner, clipped, or enclosed in a quick-release binder. Because each application will be duplicated for the review panel, do not use non-removable binders. Do not include tabs, plastic inserts, brochures, videos, or any other items that cannot be photocopied.

J. Evaluation and Selection

(1) Screening. Applications will be screened to ensure that applicants meet eligibility requirements and that application packets are complete. Incomplete application packets and applications from ineligible applicants will be eliminated from further consideration.

(2) Panel Review. The review will be conducted in Washington, D.C. Expert reviewers will include researchers, federal or state staff, child care administrators and/or other individuals with expertise in child care and early childhood services. A panel of at least three reviewers will evaluate each application to determine the strengths and weaknesses of the proposal based on the Bureau's research agenda and goals as well as the application requirements and the evaluation criteria listed herein. Panelists will provide written comments and assign numerical scores for each application. The indicated point value for each criterion is the maximum numerical score for that criterion. The assigned scores for each criterion will be summed to yield a total evaluation score for the proposal.

(3) In addition to the panel review, the Bureau may solicit comments from other federal offices and agencies, from the States, from relevant non-governmental organizations, and from individuals whose particular expertise is identified as necessary for the consideration of technical issues arising during the review. Their comments, along with those of the panelists, will be considered by the Bureau in making funding decisions. The Bureau will also take into account the best combination of proposed projects to meet overall research goals.

K. Evaluation Criteria

Eligible applications will be scored competitively against the published evaluation criteria described below.

(1) Objectives and Understanding (maximum of 20 points)

(a) The extent to which the application clearly states the principal and subordinate objectives for the project.

(b) The extent to which the application reflects a solid understanding of critical child care and early childhood education issues and information needs, as well as the goals and purposes of the Fellowship Program.

(2) Approach (maximum of 40 points)

The extent to which the applicant outlines an appropriate, feasible plan of action pertaining to the scope of the project and details how the proposed work will be accomplished and lists each organization, consultant, and other key individuals who will work on the project. The approach should plan for resolution of logistical issues and other challenges that may arise.

(3) Staff Background and Organization's Experience (maximum of 20 points)

The extent to which the qualifications of the organization and staff are sufficient to administer the project. The application must identify the background of the project director and key project staff (including name, address, training, most relevant educational background and other qualifying experiences along with resumes and a short description of their responsibilities or contribution to the applicant's work plan), the experience of the applicant in administering a project like the one proposed, the applicant's knowledge of child care issues, and the applicant's ability to effectively and efficiently administer the project.

(4) Budget Appropriateness and Reasonableness (maximum of 20 points)

The extent to which the project's costs are reasonable in view of the activities to be carried out, and the budget is sufficient to accomplish the objectives. The extent to which the applicant has sufficient fiscal capacity within the organization to ensure that unanticipated problems can be resolved and that the project will be completed on time and with a high degree of quality.

L. The Selection Process

The Associate Commissioner, Child Care Bureau, Administration on Children, Youth and Families, will make the final selection of the applicant to be funded. Applications will be funded depending on: (1) the rank order of applicants resulting from the competitive review; (2) staff review and consultations; (3) the combination of projects which best meets the Bureau's research objectives; (4) the funds available; and (5) other relevant considerations.

Selected applicants will be notified through the issuance of a Financial Assistance Award which sets forth the amount of funds granted, the terms and conditions of the cooperative agreement, the effective date of the award, the budget period for which support is given, and the total project period for which support is provided.

M. Funding Date

It is anticipated that the successful applications will be funded by June 1, 2000.

Dated: January 19, 2000.
Patricia Montoya,
Commissioner, Administration on Children, Youth and Families.

[FR Doc. 00-1883 Filed 1-26-00; 8:45 am]

BILLING CODE 4184-01-P